DEPARTMENT OF ENERGY

Federal Energy Regulatory Commission

[Docket Nos. ER00-3591-000 and ER00-3591-001]

New York Independent System Operator, Inc., Notice of Filing and Extension of Time

September 13, 2000.

Take notice that on September 8, 2000, the New York Independent System Operator, Inc. (NYISO), filed a motion requesting leave to submit revised tariff sheets out of time and a corrected combined compliance filing and report in the above-captioned proceedings. The original combined compliance filing and report was filed on September 1, 2000. The corrected combined filing proposes that the requested tariff changes become effective on November 1, 2000, with the single exception of a provision governing the payment of lost opportunity costs to suppliers of 10-Minute reserves, which the filing proposes be made retroactively effective on May 31, 2000.

A copy of this filing was served upon all parties in the above-captioned proceeding.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before September 27, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

This notice also extends the time for filing motions and protests in response to the September 1, 2000 filing by NYISO and noticed on September 7, 2000 in Docket No. ER00-3591-000, from September 22, 2000 to September 27, 2000.

Linwood A. Watson, Jr.,
Acting Secretary.

[FR Doc. 00-23975 Filed 9-18-00; 8:45 am]

BILLING CODE 6717-01-M